DEPARTMENT OF ENERGY

Federal Energy Regulatory Commission

Combined Notice of Filings #1

Take notice that the Commission received the following electric corporate filings:

Docket Numbers: EC12-25-000.

Applicants: Avenal Park LLC, Sand Drag LLC, Sun City Project LLC, Eurus Combine Hills II LLC.

Description: Eurus Combine Hills II LLC, et al. Second Supplement to Application for Authorization of Transaction Pursuant to Section 203 of the Federal Power Act and Request for Expedited Consideration.

Filed Date: 11/23/11.

Accession Number: 20111123-5145.

Comments Due: 5 p.m. ET 12/5/11.

Docket Numbers: EC12-41-000.

Applicants: Sandy Ridge Wind, LLC, Pocahontas Prairie Wind, LLC

Description: Application for Authorization for Disposition of Jurisdictional Facilities and Request for Expedited Action of Sandy Ridge Wind, LLC, et al.

Filed Date: 11/23/11.

Accession Number: 20111123-5080.

Comments Due: 5 p.m. ET 12/14/11.

Docket Numbers: EC12-42-000.

Applicants: Mountain Wind Power, LLC, Mountain Wind Power II, LLC

Description: Application for Authorization for Disposition of Jurisdictional Facilities and Request for Expedited Action of Mountain Wind Power, LLC, et al.

Filed Date: 11/23/11.

Accession Number: 20111123-5171.

Comments Due: 5 p.m. ET 12/14/11.

Take notice that the Commission received the following electric rate filings:

Docket Numbers: ER10-3260-002.

Applicants: Granite Ridge Energy, LLC.

Description: Supplemental Filing for Triennial Market Power Analysis of Granite Ridge Energy, LLC under ER10-3260.

Filed Date: 11/23/11.

Accession Number: 20111123-5092.

Comments Due: 5 p.m. ET 12/14/11.

Docket Numbers: ER11-3576-005; ER11-3401-006; ER10-3138-005.

Applicants: Golden Spread Electric Cooperative, Inc., GS Electric Generating Cooperative Inc, Denver City Energy Associates, L.P.

Description: Notice of Change in Status of Golden Spread Electric Cooperative, Inc. et al.

Filed Date: 11/23/11.

Accession Number: 20111123-5035.

Comments Due: 5 p.m. ET 12/14/11.

Docket Numbers: ER11-3859-001; ER11-3863-001; ER11-3861-001; ER11-3864-001; ER11-3866-001; ER11-3867-001; ER11-3857-001.

Applicants: Milford Power Company, LLC, MASSPOWER, Lake Road Generating Company, L.P., EquiPower Resources Management, LLC, Dighton Power, LLC, Empire Generating Co, LLC, ECP Energy I, LLC.

Description: ECP MBR Sellers Clarification Letter in ER11-3859.

Filed Date: 11/22/11.

Accession Number: 20111122-5205.

Comments Due: 5 p.m. ET 12/13/11.

Docket Numbers: ER12-171-001.

Applicants: PJM Interconnection, L.L.C.

Description: Errata to Original Service Agreement No. 3080 under Docket No. ER12-171-000 to be effective 9/22/2011.

Filed Date: 11/23/11.

Accession Number: 20111123-5138.

Comments Due: 5 p.m. ET 12/14/11.

Docket Numbers: ER12-470-000.

Applicants: PJM Interconnection, L.L.C.

Description: Amended ISA and ICSA—First Revised Service Agreement Nos. 2960 & 2972 to be effective 7/21/2011.

Filed Date: 11/23/11.

Accession Number: 20111123-5083.

Comments Due: 5 p.m. ET 12/14/11.

Docket Numbers: ER12-471-000.

Applicants: Northern States Power Company, a Wisconsin corporation

Description: 2011_11-23_DPC Const Agrmt_290-NSPW to be effective 3/31/2011.

Filed Date: 11/23/11.

Accession Number: 20111123-5141.

Comments Due: 5 p.m. ET 12/14/11.

Docket Numbers: ER12-472-000.

Applicants: Calpine Corporation.

Description: Request for Waiver of CAISO Tariff Appendix Y To Permit Full Recovery of Interconnection Financial Security of Calpine Corporation.

Filed Date: 11/23/11.

Accession Number: 20111123-5166.

Comments Due: 5 p.m. ET 12/14/11.

Docket Numbers: ER12-473-000.

Applicants: Commonwealth Edison Company.

Description: Commonwealth Edison Co. submits Notices of Cancellation.

Filed Date: 11/23/11.

Accession Number: 20111123-5169.

Comments Due: 5 p.m. ET 12/14/11.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 25, 2011.
Nathaniel J. Davis, Sr.,
Deputy Secretary.

[FR Doc. 2011-31003 Filed 12-1-11; 8:45 am]

BILLING CODE 6717-01-P